DEPARTMENT OF ENERGY

Federal Energy Regulatory Commission

[Project No. 1162 002

Kacie Lake Hydro, Inc., Notice of Surrender of Preliminary Permit

November 8, 2000.

Take notice that Kacie Lake Hydro, Inc., permittee for the proposed Kacie Lake Hydroelectric Project, has requested that its preliminary permit be terminated. The permit was issued on March 23, 1999, and would have expired on February 28, 2002. The project would have been located on an unnamed stream, near the city of Unalaska, Alaska.

The permittee filed the request on October 3, 2000, and the preliminary permit for Project No. 11620 shall remain in effect through the thirtieth day after issuance of this notice unless that day is Saturday, Sunday, or holiday as described in 18 CFR 385.2007, in which case the permit shall remain in effect through the first business day following that day. New applications involving this project site, to the extent provided for under 18 CFR Part 4, may be filed on the next business day.

Linwood A. Watson, Jr.,
Acting Secretary.

[FR Doc. 00-29588 Filed 11-17-00; 8:45 am]

BILLING CODE 6717-01-M